DEPARTMENT OF THE INTERIOR

Bureau of Land Management

[CA-169-1220-AL]

Notice of Public Meeting, Carrizo Plain National Monument Advisory Committee

SUMMARY: In accordance with Federal Land Policy and Management Act of 1976 (FLPMA), the Federal Advisory Committee Act of 1972 (FACA), the National Environmental Policy Act of 1969 (NEPA), and the Code of Federal Regulations (40 CFR 1501.7, 43 CFR 1610.2), the United States Department of the Interior, Bureau of Land Management (BLM), Carrizo Plain National Monument Advisory Committee will meet as indicated below:

DATES: The meeting will be held on Saturday, July 21, 2007, at the Carrisa Plain Elementary School on Highway 58. The school is located approximately 2 miles to the NW of the Soda Lake Road turn-off on Hwy. 58. The meeting will begin at 10 a.m. and finish at 5 p.m. The meeting will focus on the report from the scoping process for the Resource Management Plan/Environmental Impact Statement being developed for the Carrizo Plain National Monument. Public Comment Period 3-4. Lunch will be available for $8.00.

SUPPLEMENTARY INFORMATION: The nine-member Carrizo Plain National Monument Advisory Committee advises the Secretary of the Interior, through the Bureau of Land Management, on a variety of public land issues associated with the public land management in the Carrizo Plain National Monument in central California. At this meeting, Monument staff will present updated information on the progress on the draft Carrizo Plain National Monument Resource Management Plan and the Environmental Impact Statement (RMP/EIS). Reviewing the scoping comments and scoping period will be a focus at this meeting. This meeting is open to the public. Depending on the number of persons wishing to comment, and the time available, the time allotted for individual oral comments may be limited. Individuals who plan to attend and need special assistance such as sign language interpretation or other reasonable accommodations should contact BLM as indicated below.

FOR FURTHER INFORMATION CONTACT: Bureau of Land Management, Attention: Johna Hurl, Monument Manager, 3801 Pegasus Drive, Bakersfield, CA 93308. Phone at (661) 391-6093 or e-mail: jhurl@blm.gov.

Dated: June 19, 2007.
Johna Hurl,
Manager, Carrizo Plain National Monument.

[FR Doc. E7-12259 Filed 6-22-07; 8:45 am]

BILLING CODE 4310-40-P